DEPARTMENT OF COMMERCE

International Trade Administration

[C-580-818]

Corrosion-Resistant Carbon Steel Flat Products from the Republic of Korea: Final Results of Countervailing Duty Administrative Review; 2011

AGENCY: Enforcement and Compliance, formerly Import Administration, International Trade Administration, Department of Commerce.

SUMMARY: The Department of Commerce (“Department”) has completed its administrative review of the countervailing duty (“CVD”) order on corrosion-resistant carbon steel flat products from the Republic of Korea (“Korea”) for the period January 1, 2011, through December 31, 2011. On September 10, 2013, we published the Preliminary Results of this review.¹ In these final results we continue to find that the respondents, Dongbu Steel Co., Ltd. (“Dongbu”), Hyundai HYSCO Ltd. (“HYSCO”), and Pohang Iron & Steel Co. Ltd. (“POSCO”), received subsidies that result in de minimis net subsidy rates.

¹ See Corrosion-Resistant Carbon Steel Flat Products From the Republic of Korea: Preliminary Results of Countervailing Duty Administrative Review; 2011, 78 FR 55241 (September 10, 2013) (“Preliminary Results”).

DATES: Effective Date: January 31, 2014.

FOR FURTHER INFORMATION CONTACT: Robert Copyak, Andrew Medley, or Christopher Hargett, Office III, AD/CVD Operations, Enforcement and Compliance, U.S. Department of Commerce, 14th Street and Constitution Avenue NW., Washington, DC 20230; telephone (202) 482-2209, (202) 482-4987, and (202) 482-4161, respectively.

SUPPLEMENTARY INFORMATION:

Background

On September 10, 2013, we published the Preliminary Results in the Federal Register. We received case briefs from POSCO and HYSCO on October 28, 2013.² No parties submitted rebuttal briefs. We conducted no hearing in this review, as none was requested.

² At the Department's request, POSCO and HYSCO removed certain new factual information from their case briefs and resubmitted revised case briefs on November 1, 2013.

As explained in the memorandum from the Assistant Secretary for Enforcement and Compliance, the Department exercised its discretion to toll deadlines for the duration of the closure of the Federal Government from October 1, through October 16, 2013.³ Therefore, all deadlines in this segment of the proceeding were extended by 16 days. Accordingly, the deadline for the final results of this review was revised forward to January 24, 2014.

³ See Memorandum for the Record from Paul Piquado, Assistant Secretary for Enforcement and Compliance, titled “Deadlines Affected by the Shutdown of the Federal Government,” dated October 18, 2013.

Scope of the Order

The merchandise covered by this Order⁴ is certain corrosion-resistant carbon steel flat products from Korea. These products include flat-rolled carbon steel products, of rectangular shape, either clad, plated, or coated with corrosion-resistant metals such as zinc, aluminum, or zinc-, aluminum-, nickel- or iron-based alloys, whether or not corrugated or painted, varnished or coated with plastics or other nonmetallic substances in addition to the metallic coating.⁵ The merchandise subject to this Order is currently classifiable in the Harmonized Tariff Schedule of the United States (“HTSUS”) at subheadings: 7210.30.0000, 7210.31.0000, 7210.39.0000, 7210.41.0000, 7210.49.0030, 7210.49.0090, 7210.49.0091, 7210.49.0095, 7210.60.0000, 7210.61.0000, 7210.69.0000, 7210.70.6030, 7210.70.6060, 7210.70.6090, 7210.90.1000, 7210.90.6000, 7210.90.9000, 7212.20.0000, 7212.21.0000, 7212.29.0000, 7212.30.1030, 7212.30.1090, 7212.30.3000, 7212.30.5000, 7212.40.1000, 7212.40.5000, 7212.50.0000, 7212.60.0000, 7215.90.1000, 7215.9030, 7215.90.5000, 7217.12.1000, 7217.13.1000, 7217.19.1000, 7217.19.5000, 7217.20.1500, 7217.22.5000, 7217.23.5000, 7217.29.1000, 7217.29.5000, 7217.30.15.0000, 7217.32.5000, 7217.33.5000, 7217.39.1000, 7217.39.5000, 7217.90.1000 and 7217.90.5000. Although the HTSUS numbers are provided for convenience and customs purposes, the written product description, available in the Preliminary Results, remains dispositive.

⁴ See Countervailing Duty Orders and Amendments to Final Affirmative Countervailing Duty Determinations: Certain Steel Products From Korea, 58 FR 43752 (August 17, 1993) (“Order”).

⁵ For a complete description of the scope of the Order, see the Memorandum to Paul Piquado, Assistant Secretary for Enforcement and Compliance, titled “Issues and Decision Memorandum for the Final Results of the Countervailing Duty Administrative Review of Corrosion-Resistant Carbon Steel Flat Products from Korea; 2011,” dated concurrent with and adopted by this notice (“Issues and Decision Memorandum”).

Analysis of Comments Received

All issues raised in the case briefs are addressed in the Issues and Decision Memorandum.⁶ A list of the issues raised is attached to this notice as an Appendix. The Issues and Decision Memorandum is a public document and is available on file electronically via Enforcement and Compliance's Antidumping and Countervailing Duty Centralized Electronic Service System (“IA ACCESS”). IA ACCESS is available to registered users at http://iaaccess.trade.gov and in the Central Records Unit, Room 7046 of the main Department of Commerce building. In addition, a complete version of the Issues and Decision Memorandum can be accessed directly on the internet at http://enforcement.trade.gov/frn/. The signed Issues and Decision Memorandum and the electronic versions of the Issues and Decision Memorandum are identical in content.

⁶ No rebuttal briefs were submitted by parties.

Final Results of Review

In accordance with 19 CFR 351.221(b)(5), we calculated net subsidy rates for Dongbu, POSCO, and HYSCO of 0.10, 0.20, and 0.26 percent ad valorem, respectively, which are de minimis rates.⁷

⁷ See 19 CFR 351.106(c)(1).

Assessment Rates

In accordance with 19 CFR 351.212(b)(2), the Department intends to issue appropriate assessment instructions directly to U.S. Customs and Border Protection (“CBP”) 15 days after the date of publication of these final results, to liquidate shipments of subject merchandise by Dongbu, POSCO, and HYSCO entered, or withdrawn from warehouse, for consumption on or after January 1, 2011, through December 31, 2011, without regard to countervailing duties because a de minimis subsidy rate was calculated for each company.

Cash Deposit Instructions

On March 19, 2013, the Department published the Revocation Notice in the Federal Register in which it explained that 15 days after the publication date of the Revocation Notice, the Department would instruct CBP to terminate the suspension of liquidation and to discontinue the collection of cash deposits on entries of the subject merchandise, entered or withdrawn from warehouse, on or after February 14, 2012.⁸ Pursuant to the Revocation Notice the Department will further instruct CBP to refund with interest all cash deposits on entries made on or after February 14, 2012. Further, as explained in the Revocation Notice, entries of subject merchandise prior to the effective date of revocation will continue to be subject to suspension of liquidation and antidumping and/or countervailing duty deposit requirements and assessments. Lastly, in the Revocation Notice, the Department explained that it will complete any pending or requested administrative reviews of these orders covering entries prior to February 14, 2012.⁹

⁸ See Corrosion-Resistant Carbon Steel Flat Products from Germany and the Republic of Korea: Revocation of Antidumping and Countervailing Duty Orders, 78 FR 16832 (March 19, 2013) (“Revocation Notice”).

⁹ Id.

Thus, as a result of the revocation of the order, the Department will not issue cash deposit instructions in connection with this administrative review.

Administrative Protective Order

This notice serves as a reminder to parties subject to administrative protective order (“APO”) of their responsibility concerning the return or destruction of proprietary information disclosed under APO in accordance with 19 CFR 351.305(a)(3). Timely written notification of return or destruction of APO materials or conversion to judicial protective order is hereby requested. Failure to comply with the regulations and the terms of an APO is a sanctionable violation.

Disclosure

We will disclose the calculations performed within five days of the date of publication of this notice to parties in this proceeding, in accordance with 19 CFR 351.224(b).

We are issuing and publishing these results in accordance with sections 751(a)(1) and 777(i)(1) of the Tariff Act of 1930, as amended, and 19 CFR 351.213(h)(1).

Dated: January 24, 2014.
Paul Piquado,
Assistant Secretary for Enforcement and Compliance.

Appendix—Issues and Decision Memorandum

Comment 1: HYSCO's and POSCO's Tax Credits under the Restriction of Special Taxation Act (“RSTA”)

Comment 2: Calculation of HYSCO's Benefit from Document Acceptance (“D/A”) Financing

[FR Doc. 2014-02071 Filed 1-30-14; 8:45 am]

BILLING CODE 3510-DS-P